DEPARTMENT OF ENERGY

Federal Energy Regulatory Commission

[Docket No. PR06-9-000]

Crosstex Mississippi Pipeline, L.P.; Notice of Petition for Approval of Rates

February 9, 2006.

Take notice that on February 1, 2006, Crosstex Mississippi Pipeline, L.P. (CMP) filed a petition for approval of rates pursuant to section 284.123 of the Commission's regulations. CMP requests approval of an increase in its maximum system-wide rate for the interruptible transportation of natural gas from $0.2549 per MMBtu to $0.3115 per MMBtu, effective February 1, 2006. In addition, CMP states that it proposes to retain the actual amount of gas used, on a pro rata basis, for compressor fuel, company use, and lost and unaccounted for gas.

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: February 28, 2006.

Magalie R. Salas,
Secretary.

[FR Doc. E6-2243 Filed 2-15-06; 8:45 am]

BILLING CODE 6717-01-P